DEPARTMENT OF COMMERCE

National Oceanic and Atmospheric Administration

[I.D. 090601A]

Pacific Fishery Management Council; Public Meeting

AGENCY: National Marine Fisheries Service (NMFS), National Oceanic and Atmospheric Administration (NOAA), Commerce.

ACTION: Notice of public meetings.

SUMMARY: The Pacific Fishery Management Council's (Council) Salmon Technical Team (STT) will hold a work session, which is open to the public.

DATES: The work session will be held Tuesday, October 9, 2001, from 8 a.m. to 4 p.m., and Wednesday, October 10, 2001, from 8 a.m. to 4 p.m.

ADDRESSES: The work session will be held at NMFS Southwest Fisheries Science Center, Santa Cruz Laboratory, Main Conference Room 188, 110 Shaffer Road, Santa Cruz, CA 95060; (831) 420-3900.

Council address: Pacific Fishery Management Council, 7700 NE Ambassador Place, Suite 200, Portland, OR 97220-1384.

FOR FURTHER INFORMATION CONTACT: Mr. Chuck Tracy; (503) 326-6352.

SUPPLEMENTARY INFORMATION: The purpose of the work session is to finalize the Queets River coho stock assessment report; review the content and process for development of the preseason ocean salmon fishery planning documents; discuss Council Operation Procedures for the STT; and prioritize and schedule upcoming tasks.

Although non-emergency issues not contained in the meeting agenda may come before the STT for discussion, those issues may not be the subject of formal STT action during this meeting. STT action will be restricted to those issues specifically listed in this notice and any issues arising after publication of this notice that require emergency action under section 305(c) of the Magnuson-Stevens Fishery Conservation and Management Act, provided the public has been notified of the STT's intent to take final action to address the emergency.

Special Accommodations

This meeting is physically accessible to people with disabilities. Requests for sign language interpretation or other auxiliary aids should be directed to Ms. Carolyn Porter at (503) 326-6352 at least 5 days prior to the meeting date.

Dated: September 7, 2001.
Richard W. Surdi,
Acting Director, Office of Sustainable Fisheries, National Marine Fisheries Service.

[FR Doc. 01-23251 Filed 9-17-01; 8:45 am]

BILLING CODE 3510-22-S